ENVIRONMENTAL PROTECTION AGENCY

[EPA-HQ-OPP-2006-0636; FRL-8298-7]

Agency Information Collection Activities; Submission to OMB for Review and Approval; Comment Request; Pesticide Registration Fee Waivers, EPA ICR Number 2147.03, OMB Control Number 2070-0167

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. The ICR, which is abstracted below, describes the nature of the information collection activity and its expected burden and costs.

DATES: Additional comments may be submitted on or before May 16, 2007.

ADDRESSES: Submit your comments, referencing Docket ID No. EPA-HQ-OPP-2006-0636, to (1) EPA online using www.regulations.gov (our preferred method), by e-mail to opp.ncic@epa.gov, or by mail to: OPP Regulatory Public Docket (7502P), Office of Pesticide Programs (OPP), Environmental Protection Agency, 1200 Pennsylvania Ave., NW., Washington, DC 20460-0001, and (2) OMB by mail to: Office of Information and Regulatory Affairs, Office of Management and Budget (OMB), Attention: Desk Officer for EPA, 725 17th Street, NW., Washington, DC 20503.

FOR FURTHER INFORMATION CONTACT: Joseph Hogue, Field and External Affairs Division, Office of Pesticide Programs, 7506P, Environmental Protection Agency, 1200 Pennsylvania Ave., NW., Washington, DC 20460; telephone number: 703-308-9072; fax number: 703-305-5884; e-mail address: hogue.joe@epa.gov.

SUPPLEMENTARY INFORMATION: EPA has submitted the following ICR to OMB for review and approval according to the procedures prescribed in 5 CFR 1320.12. On October 25, 2006 (71 FR 62431), EPA sought comments on this ICR pursuant to 5 CFR 1320.8(d). EPA received no comments on this ICR during the 60-day comment period. Any additional comments on this ICR should be submitted to EPA and OMB within 30 days of this notice.

EPA has established a public docket for this ICR under Docket ID No. EPA-HQ-OPP-2006-0636, which is available for online viewing at www.regulations.gov, or in person viewing at the OPP Regulatory Public Docket in Rm. S-4400, One Potomac Yard (South Building), 2777 S. Crystal Drive, Arlington, VA. This docket facility is open from 8:30 a.m. to 4 p.m., Monday through Friday, excluding legal holidays. The docket telephone number is (703) 305-5805.

Use EPA's electronic docket and comment system at www.regulations.gov, to submit or view public comments, access the index listing of the contents of the docket, and to access those documents in the docket that are available electronically. Once in the system, select “docket search,” then key in the Docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Pesticide Registration Fee Waivers.

ICR Status: This is a request to renew an existing approved collection. This ICR is scheduled to expire on December 31, 2007. Under OMB regulations, the Agency may continue to conduct or sponsor the collection of information while this submission is pending at OMB. This ICR describes the nature of the information collection and its estimated burden and cost.

Abstract: This information collection will allow EPA to process requests for waivers of fees under the Pesticide Registration Improvement Act of 2003 (PRIA). The ICR covers the collection activities associated with requesting a fee waiver and involves requesters submitting a waiver request, information to demonstrate eligibility for the waiver, and certification of eligibility. Waivers are available for small businesses, for minor uses, and for actions solely associated with the Inter-Regional Research Project Number 4 (IR-4). State and federal agencies are exempt from the payment of fees. Information collected will allow EPA to determine whether to grant a waiver of registration fees, according to requirements of PRIA. Responses to the collection of information are required to obtain a fee waiver. Data and/or information submitted to the Agency in conjunction with service fee waiver requests may be claimed as trade secret or commercial or financial information and will be protected from disclosure under FIFRA section 10 and the associated regulation as contained in 40 CFR part 2, subpart B.

Burden Statement: The annual public reporting and recordkeeping burden for this collection of information is estimated to average 37 hours per response for first-time applicants, 12 hours per response for applicants requesting another fee waiver or reduction within the same fee billing cycle, and 27 hours per response for applicants that have applied for a fee waiver in a prior billing cycle but not in the current billing cycle. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Pesticide registrants that seek a registration fee waiver.

Estimated Number of Respondents: 389.

Frequency of Response: On occasion.

Estimated Total Annual Hour Burden: 8,368.

Estimated Total Annual Labor Cost: $521,903.

Changes in the Estimates: There is a decrease of 2,302 hours in the total estimated burden currently identified in the OMB Inventory of Approved ICR Burdens. This decrease is due to the fact that the distribution of responses among the three different response types has been adjusted, with a higher percentage of responses in the lower-burden types. The distribution among response types was estimated in the currently approved ICR, as it was a new requirement, whereas this proposed renewal uses actual values based on experience. This change is an adjustment.

Dated: April 6, 2007.
Robert Gunter,
Acting Director, Collection Strategies Division.

[FR Doc. E7-7136 Filed 4-13-07; 8:45 am]

BILLING CODE 6560-50-P